DEPARTMENT OF HEALTH AND HUMAN SERVICES

Substance Abuse and Mental Health Services Administration

Agency Information Collection Activities Under Emergency Review by the Office of Management and Budget

The Substance Abuse and Mental Health Services Administration (SAMHSA) has submitted the following request (see below) for emergency OMB review under the Paperwork Reduction Act (44 U.S.C. Chapter 35). OMB approval has been requested by October 25, 2018. A copy of the information collection plans may be obtained by calling the SAMHSA Reports Clearance Officer on (240) 276-1243.

Title: 2019 National Survey on Drug Use and Health.

OMB Number: 0930-0110.

Frequency: Annual.

Affected Public: Individuals or Households.

The National Survey on Drug Use and Health (NSDUH) is a survey of the U.S. civilian, non-institutionalized population aged 12 years old or older. The data are used to determine the prevalence of use of tobacco products, alcohol, illicit substances, and illicit use of prescription drugs. The results are used by SAMHSA, the Office of National Drug Control Policy (ONDCP), federal government agencies, and other organizations and researchers to establish policy, direct program activities, and better allocate resources.

While NSDUH must be updated periodically to reflect changing substance use and mental health issues and to continue producing current data, for the 2019 NSDUH only the following minor changes are planned: (1) Adding a brief series of questions on medication-assistance treatment (MAT) for opioids and alcohol; (2) two questions about the use of kratom (a tropical tree, native to Southeast Asia, with leaves that have psychotropic effects and is generally regarded as an opioid given its known properties); and (3) included other minor wording changes to improve the flow of the interview, increase respondent comprehension or to be consistent with text in other questions.

The series of MAT questions seeks to identify medications prescribed by health professionals to help reduce or stop the use of opioids or alcohol. Including these questions in NSDUH will allow SAMHSA to provide the first known national-level estimates on the use of MAT for opioid use disorder or alcohol use disorder. The two questions on kratom will provide the first national, systematic epidemiological or survey data on its use in this country and establish a baseline for the use of kratom—an easily accessible, unregulated, opioid-like drug. Not currently illegal in the United States, kratom is easy to order on the internet, typically ingested as a leaf, pill or capsule and contains chemical compounds which interact with opioid receptors in the brain. Some users of kratom products reported becoming addicted to the drug.

As with all NSDUH/NHSDA (Prior to 2002, the NSDUH was referred to as the National Household Survey on Drug Abuse) surveys conducted since 1999, the sample size of the survey for 2019 will be sufficient to permit prevalence estimates for each of the fifty states and the District of Columbia. The total annual burden estimate is shown below in Table 1.

Table 1—Annualized Estimated Burden for 2019 NSDUH
Instrument | Number of respondents | Responses per respondent | Total number of responses | Hours per response | Total burden hours
Household Screening | 137,231 | 1 | 137,231 | 0.083 | 11,390
Interview | 67,507 | 1 | 67,507 | 1.000 | 67,507
Screening Verification | 4,116 | 1 | 4,116 | 0.067 | 276
Interview Verification | 10,126 | 1 | 10,126 | 0.067 | 678
Total | 137,231 |  | 218,980 |  | 79,851

Emergency approval is being requested because SAMHSA has determined that the kratom questions will provide the first national, systematic epidemiological or survey data on its use in this country and establish a baseline for the use of kratom—an easily accessible, unregulated, opioid-like drug. Some users of kratom products reported becoming addicted to the drug. Because of these additional questions, this Federal Register notice is a revision from the one that was published on May 31, 2018.

Written comments and recommendations concerning the proposed information collection should be sent by October 24, 2018 Elyse Greenwald, SAMHSA's Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2018-21716 Filed 10-4-18; 8:45 am]

BILLING CODE 4162-20-P